DEPARTMENT OF HEALTH AND HUMAN SERVICES

Food and Drug Administration

21 CFR Parts 101 and 177

Food Labeling and Indirect Food Additives Regulations; Technical Amendment

AGENCY: Food and Drug Administration, HHS.

ACTION: Final rule; technical amendment.

SUMMARY: The Food and Drug Administration (FDA) is amending its regulations to reflect the correction of typographical and nonsubstantive errors. This action is editorial in nature and is intended to improve the accuracy of the agency's regulations.

DATES: Effective March 30, 2004.

FOR FURTHER INFORMATION CONTACT: Joyce A. Strong, Office of Policy and Planning (HF-27), Food and Drug Administration, 5600 Fishers Lane, Rockville, MD 20857, 301-827-7010.

SUPPLEMENTARY INFORMATION: This document amends FDA's regulations to reflect the correction of typographical and nonsubstantive errors in 21 CFR 101.69(o)(1) and 177.1520(b).

Publication of this document constitutes final action on these changes under the Administrative Procedure Act (5 U.S.C. 553). Notice and public procedure are unnecessary because FDA is merely correcting nonsubstantive errors.

List of Subjects

21 CFR Part 101

Food labeling, Nutrition, Reporting and recordkeeping requirements.

21 CFR Part 177

Food additives, Food packaging.

Therefore, under the Federal Food, Drug, and Cosmetic Act and under authority delegated to the Commissioner of Food and Drugs, 21 CFR parts 101 and 177 are amended as follows:

PART 101—FOOD LABELING

1. The authority citation for 21 CFR part 101 continues to read as follows:

Authority: 15 U.S.C. 1453, 1454, 1455; 21 U.S.C. 321, 331, 342, 343, 348, 371; 42 U.S.C. 243, 264, 271.

§ 101.69 [Amended]

2. Section 101.69 is amended in paragraph (o)(1) by adding a comma after “Office of Nutritional Products, Labeling and Dietary Supplements (HFS-800)”.

PART 177—INDIRECT FOOD ADDITIVES: POLYMERS

3. The authority citation for 21 CFR part 177 continues to read as follows:

Authority: 21 U.S.C. 321, 342, 348, 379e.

§ 177.1520 [Amended]

4. Section 177.1520 is amended in paragraph (b) in the table under the entry for “Methyl methacrylate/butyl * * *” by removing “200 C. St. SW., Washington, DC” and by adding in its place “5100 Paint Branch Pkwy., College Park, MD 20740”.

Dated: March 24, 2004.
Jeffrey Shuren,
Assistant Commissioner for Policy.

[FR Doc. 04-7040 Filed 3-29-04; 8:45 am]

BILLING CODE 4160-01-S